DEPARTMENT OF ENERGY

Federal Energy Regulatory Commission

[Docket No. RP04-362-000]

East Tennessee Natural Gas Company and East Tennessee Natural Gas, LLC; Notice of Tariff Filing

July 8, 2004.

Take notice that on July 1, 2004, East Tennessee Natural Gas Company (East Tennessee) and East Tennessee Natural Gas, LLC (East Tennessee LLC) tendered for filing as part of its FERC Gas Tariff, Third Revised Volume No. 1, to reflect a corporate name change to become effective July 1, 2004. East Tennessee and East Tennessee LLC state this effective date coincides with the date East Tennessee converts from a corporation to a limited liability company.

East Tennessee and East Tennessee LLC state that copies of the transmittal letter, the Appendix A list of tariff sheets, and Appendices B through D have been served upon all affected customers and interested State commissions, and that copies of the revised tariff sheets in Appendix A will be provided, upon request, via overnight mail.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-1549 Filed 7-13-04; 8:45 am]

BILLING CODE 6717-01-P